DEPARTMENT OF THE INTERIOR

Fish and Wildlife Service

[DOI-2024-0004; FF10T03000 190 FXGO16601025020]

Privacy Act of 1974; System of Records

AGENCY: Fish and Wildlife Service, Interior.

ACTION: Rescindment of system of records notices.

SUMMARY: The Department of the Interior (DOI) is issuing a public notice of its intent to rescind six U.S. Fish and Wildlife Service (FWS) Privacy Act systems of records notices (SORNs), INTERIOR/FWS-5, National Wildlife Refuge Special Use Permits, INTERIOR/FWS-7, Water Development Project and/or Effluent Discharge Permit Application Review, INTERIOR/FWS-10, National Fish Hatchery Special Use Permits, INTERIOR/FWS-20, Investigative Case File System, INTERIOR/FWS-22, U.S. Deputy Game Warden, and INTERIOR/FWS-30, Marine Mammals Management, Marking, Tagging and Reporting Program. These SORNs have been superseded by a Department-wide or FWS SORN. This rescindment will eliminate unnecessary duplicate notices and promote the overall streamlining and management of DOI Privacy Act systems of records.

DATES: These changes take effect on May 9, 2024.

ADDRESSES: You may send comments identified by docket number [DOI-2024-0004] by any of the following methods:

• Federal eRulemaking Portal: http://www.regulations.gov. Follow the instructions for sending comments.

• Email: DOI_Privacy@ios.doi.gov. Include docket number [DOI-2024-0004] in the subject line of the message.

• U.S. mail or hand-delivery: Teri Barnett, Departmental Privacy Officer, U.S. Department of the Interior, 1849 C Street NW, Room 7112, Washington, DC 20240.

Instructions: All submissions received must include the agency name and docket number [DOI-2024-0004]. All comments received will be posted without change to http://www.regulations.gov, including any personal information provided.

Docket: For access to the docket to read background documents or comments received, go to http://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Jennifer Schmidt, Associate Privacy Officer, U.S. Fish and Wildlife Service, 5275 Leesburg Pike, MS: IRTM Falls Church, VA 22041-3803, FWS_Privacy@fws.gov or (703) 358-2291.

SUPPLEMENTARY INFORMATION: Pursuant to the provisions of the Privacy Act of 1974, as amended, DOI is rescinding the following six FWS SORNs from its system of records inventory. FWS consolidated all permits systems of records under the INTERIOR/FWS-21, Permits System, SORN. FWS also determined during a routine review that the two law enforcement SORNs were superseded by a Department-wide law enforcement SORN, INTERIOR/DOI-10, DOI Law Enforcement Records Management System (LE RMS). Therefore, DOI is rescinding these FWS SORNs to avoid duplication in accordance with the Office of Management and Budget (OMB) Circular A-108, Federal Agency Responsibilities for Review, Reporting, and Publication under the Privacy Act.

• INTERIOR/FWS-5, National Wildlife Refuge Special Use Permits. The records in this system were migrated to and are maintained under the consolidated permits system, INTERIOR/FWS-21, Permits System, 89 FR 2230 (January 12, 2024).

• INTERIOR/FWS-7, Water Development Project and/or Effluent Discharge Permit Application Review. The records in this system were migrated to and are maintained under the consolidated permits system, INTERIOR/FWS-21, Permits System, 89 FR 2230 (January 12, 2024).

• INTERIOR/FWS-10, National Fish Hatchery Special Use Permits. The records in this system were migrated to and are maintained under the consolidated permits system, INTERIOR/FWS-21, Permits System, 89 FR 2230 (January 12, 2024).

• INTERIOR/FWS-20, Investigative Case File System. This system supported records of FWS law enforcement activities that are maintained under the Department-wide law enforcement SORN, INTERIOR/DOI-10, DOI Law Enforcement Records Management System (LE RMS), 89 FR 1594 (January 10, 2024).

• INTERIOR/FWS-22, U.S. Deputy Game Warden. This system supported records of FWS law enforcement activities that are maintained under the Department-wide law enforcement SORN, INTERIOR/DOI-10, DOI Law Enforcement Records Management System (LE RMS), 89 FR 1594 (January 10, 2024).

• INTERIOR/FWS-30, Marine Mammals Management, Marking, Tagging and Reporting Program. The records in this system were migrated to and are maintained under the consolidated permits system, INTERIOR/FWS-21, Permits System, 89 FR 2230 (January 12, 2024).

Rescinding these SORNs will have no adverse impacts on individuals as the records previously maintained on FWS permitting activities are covered under the consolidated INTERIOR/FWS-21, Permits System, SORN. FWS law enforcement records are maintained under the published Department-wide law enforcement SORN, INTERIOR/DOI-10, DOI Law Enforcement Records Management System (LE RMS). These rescindments will eliminate unnecessary duplicate notices and promote the overall streamlining and management of DOI Privacy Act systems of records in accordance with the Privacy Act of 1974 and OMB Circular A-108, Federal Agency Responsibilities for Review, Reporting, and Publication under the Privacy Act.

SYSTEM NAME AND NUMBER:

1. INTERIOR/FWS-5, National Wildlife Refuge Special Use Permits.

2. INTERIOR/FWS-7, Water Development Project and/or Effluent Discharge Permit Application Review.

3. INTERIOR/FWS-10, National Fish Hatchery Special Use Permits.

4. INTERIOR/FWS-20, Investigative Case File System.

5. INTERIOR/FWS-22, U.S. Deputy Game Warden.

6. INTERIOR/FWS-30, Marine Mammals Management, Marking, Tagging and Reporting Program.

HISTORY:

1. INTERIOR/FWS-5, National Wildlife Refuge Special Use Permits, 64 FR 29055 (May 28, 1999); modification published at 88 FR 16277 (March 16, 2023).

2. INTERIOR/FWS-7, Water Development Project and/or Effluent Discharge Permit Application Review, 46 FR 18367 (March 24, 1981); modification published at 88 FR 16277 (March 16, 2023).

3. INTERIOR/FWS-10, National Fish Hatchery Special Use Permits, 64 FR 29055 (May 28, 1999); modification published at 88 FR 16277 (March 16, 2023).

4. INTERIOR/FWS-20, Investigative Case File System, 64 FR 29055 (May 28, 1999); modification published at 88 FR 16277 (March 16, 2023).

5. INTERIOR/FWS-22, U.S. Deputy Game Warden, 64 FR 29055 (May 28, 1999); modification published at 88 FR 16277 (March 16, 2023).

6. INTERIOR/FWS-30, Marine Mammals Management, Marking, Tagging and Reporting Program, 58 FR 41803 (August 5, 1993); modification published at 88 FR 16277 (March 16, 2023).

Teri Barnett,
Departmental Privacy Officer, U.S. Department of the Interior.

[FR Doc. 2024-10127 Filed 5-8-24; 8:45 am]

BILLING CODE 4333-15-P